DEPARTMENT OF THE INTERIOR

Fish and Wildlife Service

[FWS-HQ-R-2020-N136; FXGO1664091HCC0-FF09D00000-190]

Hunting and Shooting Sports Conservation Council; Public Meeting by Videoconference

AGENCY: Fish and Wildlife Service, Interior.

ACTION: Notice of meeting.

SUMMARY: We, the U.S. Fish and Wildlife Service, announce a public meeting via videoconference of the Hunting and Shooting Sports Conservation Council (Council), in accordance with the Federal Advisory Committee Act. The videoconference is open to the public.

DATES: Videoconference: Thursday, December 3, 2020, from 1:00 p.m. to 4:00 p.m. Eastern Time.

Deadlines: For deadlines for registration, requests for accommodation, or comment submission, please see Public Input under SUPPLEMENTARY INFORMATION.

FOR FURTHER INFORMATION CONTACT: Douglas Hobbs, Designated Federal Officer, by email at doug_hobbs@fws.gov, by telephone at 703-358-2336, or by the Federal Relay Service at 800-877-8339.

SUPPLEMENTARY INFORMATION: The Council was established to further the provisions of the Fish and Wildlife Act of 1956 (16 U.S.C. 742a et seq.), the Federal Land Policy and Management Act of 1976 (43 U.S.C. 1701-1785), the National Wildlife Refuge System Improvement Act of 1997 (16 U.S.C. 668dd-ee), other statutes applicable to specific bureaus, and Executive Order 13443 (August 16, 2007), “Facilitation of Hunting Heritage and Wildlife Conservation.” The Council's purpose is to provide recommendations to the Federal Government, through the Secretary of the Interior and the Secretary of Agriculture, regarding policies and endeavors that (a) benefit wildlife resources; (b) encourage partnership among the public; sporting conservation organizations; and Federal, State, Tribal, and territorial governments; and (c) benefit recreational hunting and recreational shooting sports.

Meeting Agenda

• Review issues and recommendations from the 2018-2020 Council term and consider a final report of activities.

• Discuss issues for future Council consideration.

• Conduct other miscellaneous Council business.

• Open public comment period.

The final agenda and other related meeting information will be posted on the Council website at https://www.fws.gov/hsscc. The Designated Federal Officer will maintain detailed minutes of the meeting, which will be posted for public inspection within 90 days after the meeting at https://www.fws.gov/hsscc.

Public Input

If you wish to | You must contact the Council Designated Federal Officer (see FOR FURTHER INFORMATION CONTACT) no later than
Listen to the meeting via telephone (listen-only mode) | November 30, 2020.
Request special accommodations | November 27, 2020.
Submit written information before the meeting for the Council to consider during the videoconference | November 30, 2020.
Give an oral presentation during the videoconference | December 3, 2020.
Submit a copy of oral statement or expanded statement, or to submit statement because time constraints prevented presentation during the videoconference | Up to 30 days after the videoconference date.

Submitting Written Information

Interested members of the public may submit relevant information for the Council to consider during the videoconference. Written statements must be received by the Council Designated Federal Officer no later than the date in Public Input so that the information may be made available to the Council for their consideration prior to the videoconference. Written statements must be supplied to the Council Designated Federal Officer via email (acceptable file formats are Adobe Acrobat PDF, MS Word, MS PowerPoint, or rich text file) (see FOR FURTHER INFORMATION CONTACT).

Giving an Oral Presentation

Depending on the number of people who want to comment and the time available, the amount of time for individual oral comments may be limited. Interested parties should contact the Council Designated Federal Officer, in writing (see FOR FURTHER INFORMATION CONTACT), for placement on the public speaker list for this videoconference. Registered speakers who wish to expand upon their oral statements, or those who had wished to speak but could not be accommodated on the agenda, may submit written statements to the Council Designated Federal Officer up to 30 days following the meeting. Requests to address the Council during the videoconference will be accommodated in the order the requests are received. Requests to address the Council during the teleconference will be accommodated in the order the requests are received.

Accommodations

The Service is committed to providing access to this videoconference to all participants. Please direct all requests for accommodations to Douglas Hobbs (see FOR FURTHER INFORMATION CONTACT) by close of business on the date in Public Input. If you are hearing impaired or speech impaired, contact Douglas Hobbs via the Federal Relay Service at 800-877-8339.

Availability of Public Comments

Before including your address, phone number, email address, or other personal identifying information in your comment, you should be aware that your entire comment—including your personal identifying information—may be made publicly available at any time. While you can ask us in your comment to withhold your personal identifying information from public review, we cannot guarantee that we will be able to do so.

(Authority: 5 U.S.C. Appendix 2)

Matthew Huggler,
Acting Assistant Director—External Affairs.

[FR Doc. 2020-24619 Filed 11-5-20; 8:45 am]

BILLING CODE 4333-15-P